DEPARTMENT OF HOUSING AND URBAN DEVELOPMENT

[Docket No. FR-7011-N-52]

30-Day Notice of Proposed Information Collection Comment Request Fair Housing Initiatives Program Grant Application and Monitoring Reports 2529-0033

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 additional days of public comment.

DATES: Comments Due Date: January 2, 2020.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW, Washington, DC 20410; email Colette Pollard at Colette.Pollard@hud.gov or telephone 202-402-3400. This is not a toll-free number. Persons with hearing or speech impairments may access this number through TTY by calling the toll-free Federal Relay Service at (800) 877-8339.

Copies of available documents submitted to OMB may be obtained from Ms. Pollard.

SUPPLEMENTARY INFORMATION: This notice informs the public that HUD is seeking approval from OMB for the information collection described in Section A. The Federal Register notice that solicited public comment on the information collection for a period of 60 days was published on August 2, 2019.

A. Overview of Information Collection

Title of Information Collection: 25 CFR 125, Fair Housing Initiatives Program.

OMB Approval Number: 2529-0033.

Type of Request: Extension of currently approved collection.

Form Number: HUD 904 A, B and C, SF-425, SF-424, SF-LLL, HUD-2880, HUD-2990, HUD-2993, HUD-424CB, HUD-424-CBW, HUD2994-A, HUD-96010, and HUD-27061.

Description of the need for the information and proposed use: The collection is needed to allow the Fair Housing Initiatives Program (FHIP) to request information necessary to complete a grant application package during the Notice of Funding Availability (NOFA) grant application process. The collection is used to assist the Department in effectively evaluating grant application packages to select the highest ranked applications for funding to carry out fair housing enforcement and/or education and outreach activities under the following FHIP initiatives: Private Enforcement, Education and Outreach, and Fair Housing Organization. The collection is also needed for the collection of post-award reports and other information used to monitor grants and grant funds. Information collected from quarterly and final progress reports and enforcement logs will enable the Department to evaluate the performance of agencies that receive funding and determine the impact of the program on preventing and eliminating discriminatory housing practices.

Respondents (i.e., affected public): Fair Housing Enforcement Organizations, Fair Housing organizations, non-profit and other organizations eligible to apply for FHIP funding.

Information collection | Number of respondents | Frequency of response | Responses per annum | Burden hour per response | Annual burden hours
Application Development | 400 | 1 | 400 | 76.50 | 30,600
Quarterly Report | 104 | 4 | 416 | 19 | 7,904
Supplemental Outcome Report | 104 | 1 | 104 | 19 | 1,976
Enforcement Log | 59 | 4 | 236 | 7 | 1,652
Final Report | 102 | 1 | 102 | 20 | 2,040
Recordkeeping | 104 | 1 | 104 | 21 | 2,184
Total | 873 | 12 | 1362 | 162.50 | 46,356

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: November 12, 2019.
Colette Pollard,
Department Reports Management Officer, Officer of the Chief Information Officer.

[FR Doc. 2019-26046 Filed 11-29-19; 8:45 am]

BILLING CODE 4210-67-P